DEPARTMENT OF TRANSPORTATION

Federal Aviation Administration

14 CFR Part 71

[Docket No. FAA-2010-0784; Airspace Docket No. 10-AWP-5]

Modification of Class D and E Airspace, and Revocation of Class E Airspace; Flagstaff, AZ

AGENCY: Federal Aviation Administration (FAA), DOT.

ACTION: Final rule.

SUMMARY: This action will modify Class D and E airspace at Flagstaff, AZ, to accommodate aircraft departing and arriving under Instrument Flight Rules (IFR) at Flagstaff Pulliam Airport. This action also removes Class E airspace designated as an extension to a Class D or E surface area at Flagstaff Pulliam Airport. This action, initiated by the biennial review of the Flagstaff airspace area, will enhance the safety and management of aircraft operations at the airport. This action also makes minor adjustments to the legal description of the airspace.

DATES: Effective 0901 UTC, March 10, 2011. The Director of the Federal Register approves this incorporation by reference action under 1 CFR Part 51, subject to the annual revision of FAA Order 7400.9 and publication of conforming amendments.

FOR FURTHER INFORMATION CONTACT: Richard Roberts, Federal Aviation Administration, Operations Support Group, Western Service Center, 1601 Lind Avenue, SW., Renton, WA 98057; telephone (425) 203-4517.

SUPPLEMENTARY INFORMATION:

History

On October 6, 2010, the FAA published in the Federal Register a notice of proposed rulemaking to remove Class E airspace designated as an extension to a Class D or E surface area at Flagstaff, AZ and to modify the Class D and E controlled airspace at Flagstaff Pulliam Airport (75 FR 61660). Interested parties were invited to participate in this rulemaking effort by submitting written comments on the proposal to the FAA. No comments were received.

Class D and E airspace designations are published in paragraph 5000, 6004, and 6005, respectively, of FAA Order 7400.9U, dated August 18, 2010, and effective September 15, 2010, which is incorporated by reference in 14 CFR part 71.1. The Class D and E airspace designations listed in this document will be published subsequently in that Order.

The Rule

This action amends Title 14 Code of Federal Regulations (14 CFR) Part 71 by modifying the Class D airspace and Class E airspace extending upward from 700 feet above the surface to meet current standards for IFR departures and arrivals at Flagstaff Pulliam Airport, Flagstaff, AZ. This action, initiated by a biennial review of the airspace, is necessary for the safety and management of IFR operations at the airport. This action also makes a minor correction to the legal description for Class E airspace extending upward from 700 feet above the surface to coincide with the FAA's National Aeronautical Navigation Services, and changes the description to not exclude the Sedona, AZ, Class E airspace area from this description.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Flagstaff Pulliam Airport, Flagstaff AZ.

List of Subjects in 14 CFR Part 71

Airspace, Incorporation by reference, Navigation (air).

Adoption of the Amendment

In consideration of the foregoing, the Federal Aviation Administration amends 14 CFR Part 71 as follows:

PART 71—DESIGNATION OF CLASS A, B, C, D, AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9U, Airspace Designations and Reporting Points, dated August 18, 2010, and effective September 15, 2010 is amended as follows:

Paragraph 5000 Class D airspace.

* * * * *

AWP AZ D Flagstaff, AZ [Modified]

Flagstaff Pulliam Airport, AZ

(Lat. 35°08′25″ N., long. 111°40′09″ W.)

That airspace extending upward from the surface to and including 9,500 feet MSL within a 5-mile radius of Flagstaff Pulliam Airport beginning at lat. 35°13′08″ N., long. 111°38′07″ W., clockwise to lat. 35°07′21″ N., long. 111°46′07″ W., thence to the point of beginning; and that airspace 1.5 miles each side of the Flagstaff Pulliam Airport 127° bearing extending to 7 miles southeast of the Flagstaff Pulliam Airport. This Class D airspace area is effective during the specific dates and times established in advance by a Notice to Airmen. The effective date and time will thereafter be continuously published in the Airport/Facility Directory.

Paragraph 6004 Class E airspace areas designated as an extension to Class D or Class E surface area.

* * * * *

AWP AZ E4 Flagstaff, AZ [Removed]

Paragraph 6005 Class E airspace areas extending upward from 700 feet above the surface.

* * * * *

AWP AZ E5 Flagstaff, AZ [Modified]

Flagstaff Pulliam Airport, AZ

(Lat. 35°08′25″ N., long. 111°40′09″ W.)

That airspace extending upward from 700 feet above the surface beginning southwest of the Flagstaff Pulliam Airport at lat. 35°07′59″ N., long. 111°50′30″ W., clockwise along an 8.5 mile arc to lat. 35°16′14″ N., long. 111°36′2″ W., thence to lat. 35°08′25″ N., long. 111°14′50″ W., thence to lat. 35°08′25″ N., long. 111°14′50″ W., to lat. 34°54′20″ N., long. 111°26′11″ W., to lat. 34°58′47″ N., long. 111°37′17″ W., to lat. 34°43′58″ N., long. 111°50′21″ W., to lat. 34°45′01″ N., long. 112°01′17″ W., to lat. 34°54′24″ N., long. 112°05′16″ W., to lat. 35°08′10″ N., long. 111°51′59″ W., thence to the point of beginning. That airspace extending upward from 1,200 feet above the surface bounded by a line beginning at lat. 35°05′04″ N., long. 112°27′43″ W., to lat. 35°11′22″ N., long. 110°52′43″ W., thence clockwise along the 39 mile arc to the point of beginning.

Issued in Seattle, Washington, on December 1, 2010.
John Warner,
Manager, Operations Support Group, Western Service Center.

[FR Doc. 2010-30980 Filed 12-9-10; 8:45 am]

BILLING CODE 4910-13-P